DEPARTMENT OF TRANSPORTATION

Federal Aviation Administration

14 CFR Part 97

[Docket No. 31181; Amdt. No. 3789]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective March 9, 2018. The compliance date for each SIAP, associated Takeoff Minimums, and ODP is specified in the amendatory provisions.

The incorporation by reference of certain publications listed in the regulations is approved by the Director of the Federal Register as of March 9, 2018.

ADDRESSES: Availability of matters incorporated by reference in the amendment is as follows:

For Examination

1. U.S. Department of Transportation, Docket Ops-M30, 1200 New Jersey Avenue SE, West Bldg., Ground Floor, Washington, DC, 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125), Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on February 23, 2018.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

* * * Effective 29 March 2018

Homer, AK, Homer, LOC RWY 4, Amdt 11

Homer, AK, Homer, LOC BC RWY 22, Amdt 6

Homer, AK, Homer, Takeoff Minimums and Obstacle DP, Amdt 3

Kenai, AK, Kenai Muni, ILS OR LOC RWY 20R, Amdt 6

Kenai, AK, Kenai Muni, RNAV (GPS) RWY 20R, Amdt 4

Kenai, AK, Kenai Muni, VOR RWY 2L, Amdt 10

Kenai, AK, Kenai Muni, VOR RWY 20R, Amdt 21

Nome, AK, Nome, ILS Y OR LOC Y RWY 28, Amdt 4A

Nome, AK, Nome, ILS Z OR LOC Z RWY 28, Amdt 5

Gulf Shores, AL, Jack Edwards National, ILS OR LOC RWY 27, Amdt 1B

Gulf Shores, AL, Jack Edwards National, RNAV (GPS) RWY 9, Amdt 3B

Gulf Shores, AL, Jack Edwards National, RNAV (GPS) RWY 27, Amdt 2B

Gulf Shores, AL, Jack Edwards National, Takeoff Minimums and Obstacle DP, Orig-A

Blytheville, AR, Arkansas Intl, ILS OR LOC RWY 18, Amdt 2A

Redlands, CA, Redlands Muni, RNAV (GPS)-A, Amdt 1

Santa Monica, CA, Santa Monica Muni, RNAV (GPS) RWY 21, Amdt 1A

Wray, CO, Wray Muni, RNAV (GPS) RWY 17, Amdt 2

Wray, CO, Wray Muni, RNAV (GPS) RWY 35, Amdt 2

Windsor Locks, CT, Bradley Intl, COPTER ILS OR LOC RWY 6, Amdt 2

Windsor Locks, CT, Bradley Intl, ILS OR LOC RWY 6, ILS RWY 6 (SA CAT I), ILS RWY 6 (CAT II), ILS RWY 6 (CAT III), Amdt 38

Windsor Locks, CT, Bradley Intl, ILS OR LOC RWY 24, ILS RWY 24 (SA CAT I), ILS RWY 24 (SA CAT II), Amdt 13

Windsor Locks, CT, Bradley Intl, ILS OR LOC RWY 33, Amdt 10C

Windsor Locks, CT, Bradley Intl, RNAV (GPS) RWY 15, Amdt 3

Windsor Locks, CT, Bradley Intl, RNAV (GPS) RWY 33, Amdt 3

Windsor Locks, CT, Bradley Intl, RNAV (GPS) Y RWY 6, Amdt 3

Windsor Locks, CT, Bradley Intl, RNAV (GPS) Y RWY 24, Amdt 4

Windsor Locks, CT, Bradley Intl, RNAV (RNP) Z RWY 6, Amdt 1

Windsor Locks, CT, Bradley Intl, RNAV (RNP) Z RWY 24, Amdt 1

Nashville, GA, Berrien Co, RNAV (GPS) RWY 28, Amdt 1

Topeka, KS, Philip Billard Muni, ILS OR LOC RWY 13, Amdt 33A

Topeka, KS, Philip Billard Muni, LOC BC RWY 31, Amdt 19C

Topeka, KS, Philip Billard Muni, RNAV (GPS) RWY 13, Amdt 1B

Topeka, KS, Philip Billard Muni, RNAV (GPS) RWY 31, Amdt 1B

Bardstown, KY, Samuels Field, RNAV (GPS) RWY 3, Amdt 1

Bardstown, KY, Samuels Field, RNAV (GPS) RWY 21, Amdt 1

Bardstown, KY, Samuels Field, Takeoff Minimums and Obstacle DP, Amdt 2

Bardstown, KY, Samuels Field, VOR RWY 3, Amdt 1

Louisville, KY, Louisville Intl-Standiford Field, ILS OR LOC RWY 17L, Amdt 4G

Louisville, KY, Louisville Intl-Standiford Field, ILS OR LOC RWY 17R, Amdt 3G

Louisville, KY, Louisville Intl-Standiford Field, ILS OR LOC RWY 35L, ILS RWY 35L (SA CAT I), ILS RWY 35L (CAT II), ILS RWY 35L (CAT III), Amdt 3F

Louisville, KY, Louisville Intl-Standiford Field, ILS OR LOC RWY 35R, ILS RWY 35R (SA CAT I), ILS RWY 35R (CAT II), ILS RWY 35R (CAT III), Amdt 4E

Louisville, KY, Louisville Intl-Standiford Field, LOC RWY 29, Orig-B

Louisville, KY, Louisville Intl-Standiford Field, RNAV (GPS) RWY 29, Orig-C

Louisville, KY, Louisville Intl-Standiford Field, RNAV (GPS) Y RWY 17L, Amdt 1E

Louisville, KY, Louisville Intl-Standiford Field, RNAV (GPS) Y RWY 17R, Amdt 1E

Louisville, KY, Louisville Intl-Standiford Field, RNAV (GPS) Y RWY 35L, Amdt 1D

Louisville, KY, Louisville Intl-Standiford Field, RNAV (GPS) Y RWY 35R, Amdt 1E

Louisville, KY, Louisville Intl-Standiford Field, RNAV (RNP) Z RWY 17L, Orig-D

Louisville, KY, Louisville Intl-Standiford Field, RNAV (RNP) Z RWY 17R, Orig-C

Louisville, KY, Louisville Intl-Standiford Field, RNAV (RNP) Z RWY 35L, Amdt 1D

Louisville, KY, Louisville Intl-Standiford Field, RNAV (RNP) Z RWY 35R, Orig-C

Hastings, MI, Hastings, RNAV (GPS) RWY 12, Amdt 2

Hastings, MI, Hastings, RNAV (GPS) RWY 30, Amdt 2

Bigfork, MN, Bigfork Muni, Takeoff Minimums and Obstacle DP, Amdt 1

Brainerd, MN, Brainerd Lakes Rgnl, ILS OR LOC RWY 23, Amdt 7A

Brainerd, MN, Brainerd Lakes Rgnl, ILS OR LOC/DME RWY 34, Amdt 2

Brainerd, MN, Brainerd Lakes Rgnl, RNAV (GPS) RWY 5, Amdt 1A

Brainerd, MN, Brainerd Lakes Rgnl, RNAV (GPS) RWY 23, Orig-A

Brainerd, MN, Brainerd Lakes Rgnl, RNAV (GPS) RWY 34, Orig-A

St Cloud, MN, St Cloud Rgnl, ILS OR LOC RWY 31, Amdt 3B

St Cloud, MN, St Cloud Rgnl, RNAV (GPS) RWY 5, Orig-B

St Cloud, MN, St Cloud Rgnl, RNAV (GPS) RWY 23, Orig-B

St Cloud, MN, St Cloud Rgnl, RNAV (GPS) RWY 31, Amdt 1A

Beatrice, NE, Beatrice Muni, RNAV (GPS) RWY 14, Amdt 1C

Mount Vernon, OH, Knox County, RNAV (GPS) RWY 28, Amdt 1B

Mount Vernon, OH, Knox County, VOR-A, Amdt 8A

Hugo, OK, Stan Stamper Muni, RNAV (GPS) RWY 17, Amdt 1

Hugo, OK, Stan Stamper Muni, RNAV (GPS) RWY 35, Amdt 1

Corvallis, OR, Corvallis Muni, RNAV (GPS) RWY 17, Amdt 1A

Murfreesboro, TN, Murfreesboro Muni, NDB RWY 18, Amdt 2

Murfreesboro, TN, Murfreesboro Muni, RNAV (GPS) RWY 18, Amdt 2

Murfreesboro, TN, Murfreesboro Muni, RNAV (GPS) RWY 36, Amdt 3

Carthage, TX, Panola County-Sharpe Field, RNAV (GPS) RWY 35, Orig-A

Seymour, TX, Seymour Muni, RNAV (GPS) RWY 17, Orig-B

Milwaukee, WI, General Mitchell Intl, RNAV (GPS) Z RWY 7R, Amdt 1E

RESCINDED: On January 26, 2018 (83 FR 3572), the FAA published an Amendment in Docket No. 31175, Amdt No. 3783, to Part 97 of the Federal Aviation Regulations under section 97.27, 97.29, 97.31, 97.33, and 97.37. The following entries for Little Rock, AR, and Fort Hood/Killen, TX, effective March 29, 2018, are hereby rescinded in their entirety:

Little Rock, AR, Bill and Hillary Clinton National/Adams Field, ILS OR LOC RWY 4L, Amdt 26A

Little Rock, AR, Bill and Hillary Clinton National/Adams Field, ILS OR LOC RWY 4R, Amdt 2D

Little Rock, AR, Bill and Hillary Clinton National/Adams Field, ILS OR LOC RWY 22L, Orig-D

Little Rock, AR, Bill and Hillary Clinton National/Adams Field, RNAV (GPS) RWY 36, Orig-C

Little Rock, AR, Bill and Hillary Clinton National/Adams Field, Takeoff Minimums and Obstacle DP, Amdt 9

Fort Hood/Killeen, TX, Robert Gray AAF, NDB RWY 15, Amdt 6A, CANCELED

Fort Hood/Killeen, TX, Robert Gray AAF, RADAR-2, Orig-A

RESCINDED: On February 13, 2018 (83 FR 6130), the FAA published an Amendment in Docket No. 31177, Amdt No. 3785, to Part 97 of the Federal Aviation Regulations under section 97.33. The following entries for Douglas, GA, effective March 29, 2018, are hereby rescinded in their entirety.

Douglas, GA, Douglas Muni, RNAV (GPS) RWY 4, Amdt 2

Douglas, GA, Douglas Muni, RNAV (GPS) RWY 22, Amdt 2

[FR Doc. 2018-04583 Filed 3-8-18; 8:45 am]

BILLING CODE 4910-13-P